DEPARTMENT OF HEALTH AND HUMAN SERVICES

Centers for Disease Control and Prevention

[60Day-22-1128; Docket No. CDC-2022-0050]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled State Unintentional Drug Overdose Reporting System (SUDORS). This information collection supports drug overdose prevention efforts, detects new trends in fatal unintentional drug overdoses, and assesses the progress of HHS's initiative to reduce opioid abuse.

DATES: CDC must receive written comments on or before June 17, 2022.

ADDRESSES: You may submit comments, identified by Docket No. CDC-2022-0050 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

State Unintentional Drug Overdose Reporting System (SUDORS) (OMB Control No. 0920-1128, Exp. 10/31/2023)—Revision—National Center for Injury Prevention and Control (NCIPC), Centers for Disease Control and Prevention (CDC).

Background and Brief Description

This is a Revision request for the currently approved State Unintentional Drug Overdose Reporting System (SUDORS) (OMB Control No. 0920-1128, Exp. Date 10/31/2023). SUDORS assists with ongoing surveillance of fatal unintentional and undetermined intent drug-related overdoses to support prevention and response efforts.

In 2013, there were nearly 44,000 drug overdose deaths, including nearly 36,000 unintentional drug overdose deaths, in the United States, with more people now dying of drug overdoses than automobile crashes. A major driver of the problem are overdoses related to opioids, both opioid pain relievers (OPRs) and illicit forms such as heroin. In order to address this public health problem, the U.S. Department of Health and Human Services (HHS) has made addressing the opioid abuse problem a high priority.

To support targeting of drug overdose prevention efforts, detect new trends in fatal unintentional drug overdoses, and assess the progress of HHS's initiative to reduce opioid abuse and overdoses, the State Unintentional Drug Overdose Reporting System (SUDORS) generates public health surveillance information at the national, state, and local levels. This information is more detailed, useful, and timely than other information that is currently available.

This collection will detect state and local community changes in unintentional and undetermined intent drug-related overdose mortality faster and provide in-depth state and local (e.g., county) information on risk factors for fatal drug overdose deaths that can inform the selection and targeting of interventions in all 50 states, the District of Columbia and Puerto Rico. This information will help develop, inform, and assess the progress of drug overdose prevention strategies at both the state and national levels. Information will also improve the identification and response to changes in fatal unintentional and undetermined intent drug-related overdose trends at the local, state, and national level. CDC obtained OMB approval in 2020 for a Revision to make the following changes: (1) Expand data collection from the 50 jurisdictions previously approved to include 52 jurisdictions (i.e., all 50 states, Puerto Rico and the District of Columbia), (2) expand data collection from its current focus on opioid overdose deaths to a broader focus on drug overdose deaths, (3) account for increasing data collection burden related to large increases in drug overdose deaths, and (4) update the web-based system to improve performance, functionality, and accessibility, as well as add data elements to the State Unintentional Drug Overdose Reporting System (SUDORS) module to capture more detailed information.

CDC requests a three-year approval for an additional Revision request to continue collecting SUDORS data. The current Revision request has the following change: The burden estimate has been updated to reflect the increase in the number of drug overdose deaths. This new burden estimate is higher than the previously approved estimate of 32,838 hours because the previous burden estimates were based on the number of unintentional and undetermined intent drug overdose deaths that occurred among all 50 states in 2017 (64,998 deaths). This Revision request will use the total number of unintentional or undetermined intent drug overdose deaths in the US from 2020 (87,302 deaths). The total number of unintentional or undetermined intent drug overdose deaths per jurisdiction was estimated by dividing the total number of drug overdose deaths, 87,302 by the number of participating health departments, 51, or approximately 1,711 deaths per participating health department. This created an increase from the previously approved burden.

CDC requests OMB approval for an estimated 43,631 annual burden hours. There are no costs to respondents other than their time to participate.

Estimated Annualized Burden Hours
Type of respondent | Form name | Number of respondents | Total number of responses per respondent | Average burden per response (in hours) | Total burden hours (in hours)
Public Agencies | Retrieving and refiling records | 51 | 1,711 | 30/60 | 43,631
Total |  |  |  |  | 43,631

Jeffrey M. Zirger,
Lead, Information Collection Review Office, Office of Scientific Integrity, Office of Science, Centers for Disease Control and Prevention.

[FR Doc. 2022-08217 Filed 4-15-22; 8:45 am]

BILLING CODE 4163-18-P